DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by July 28, 2003.

Title and OMB Number: Contractor Manpower Reporting Pilot Study; OMB Number 0702—(To Be Determined)

Type of Request: New Collection.

Number of Respondents: 31,870.

Responses Per Respondent: 30 (average).

Annual Responses: 969,216.

Average Burden Per Response: 5 minutes (average).

Annual Burden Hours: 80,445.

Needs and Uses: Section 345 of the National Defense Authorization Act for Fiscal Year 2002 (Pub. L. 107-194) requires that the Secretary of the Army to submit to Congress a report describing the use, during the previous fiscal year, of non-Federal entities providing services to the Department of the Army. The pilot program will greatly enhance the ability of the Army to identify and track its contractor workforce. Modern systems do not have contractor manpower data that is collected by the Contractor Manpower Reporting System, ie., estimated direct labor hours, estimated direct labor dollars, and organization supported. Existing financial and procurement systems have obligation amounts of an unknown mix, and the Department of the Army is not able to trace the funding of the organization supported. The pilot study will use a streamlined, user-friendly, and secure website to obtain contractor work force information.

Affected Public: Business or Other For-Profit.

Frequency: Annually.

Respondent's Obligation: Required to Obtain or Retain benefits.

OMB Desk Officer: Ms. Jackie Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/DIOR, 1215, Jefferson Davis Highway, Suite 1204, Arlington, VA 22202-4302.

Dated: June 18, 2003.
Patricia L. Toppings,
Alternate OSD Federal Register Liaison Officer, Department of Defense.

[FR Doc. 03-16123 Filed 6-25-03; 8:45 am]

BILLING CODE 5001-08-M